DEPARTMENT OF THE INTERIOR

Bureau of Land Management

[234.LLID957000.L14400000.BJ0000.241A00]

Notice of Filing of Plats of Survey, Idaho

AGENCY: Bureau of Land Management, Interior.

ACTION: Notice of filing of plats of surveys.

SUMMARY: The Bureau of Land Management (BLM) has officially filed the plats of survey of the lands described below in the BLM, Idaho State Office, Boise, Idaho, on the dates specified below:

Boise Meridian, Idaho

T. 2 S., R. 4 W., Sections 2 and 11, accepted September 14, 2022.

T. 33 N., R. 3 E., Section 33, accepted September 15, 2022.

T. 1 S., R. 3 E., Section 21, accepted September 16, 2022.

T. 23 N., R. 1 E., Section 27, accepted September 20, 2022.

T. 5 S., R. 7 E., Sections 23, 24, 25, 26 and 35, accepted September 21, 2022.

T. 13 N., R. 5 W., Sections 24, 25 and 36, accepted September 22, 2022.

T. 13 N., R. 4 W., Section 30, accepted September 22, 2022.

ADDRESSES: A copy of the plats may be obtained from the Public Room at the BLM, Idaho State Office, 1387 S Vinnell Way, Boise, Idaho 83709, upon required payment.

FOR FURTHER INFORMATION CONTACT: Monte L. King, Branch of Cadastral Survey, BLM, 1387 South Vinnell Way, Boise, Idaho 83709-1657; (208) 373-3984; email: mking@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION: The plat, in two sheets, of the dependent resurvey of portions of the north boundary and subdivisional lines and the subdivision of sections 2 and 11, Township 2 South, Range 4 West, Boise Meridian, Idaho, Group Number 1460, was accepted September 14, 2022.

The plat, in one sheet, incorporating the field notes of the dependent resurvey of portions of the south boundary and subdivisional lines and the subdivision of section 33, Township 33 North, Range 3 East, Boise Meridian, Idaho, Group Number 1472, was accepted September 15, 2022.

The plat, in one sheet, incorporating the field notes of the dependent resurvey of a portion of the subdivisional lines, Township 1 South, Range 3 East, Boise Meridian, Idaho, Group Number 1490, was accepted September 16, 2022.

The plat, in one sheet, incorporating the field notes of the dependent resurvey of a portion of the subdivisional lines and the subdivision of section 27, Township 23 North, Range 1 East, Boise Meridian, Idaho, Group Number 1498, was accepted September 20, 2022.

The plat, in one sheet, incorporating the field notes of the dependent resurvey of portions of the south and east boundaries, and subdivisional lines and the subdivision of sections 23, 24, 25, 26 and 35, Township 5 South, Range 7 East, Boise Meridian, Idaho, Group Number 1541, was accepted September 21, 2022.

The plat, in one sheet, incorporating the field notes of the dependent resurvey of portions of the south boundary, east boundary, and subdivisional lines and the subdivision of sections 24, 25, and 36, Township 13 North, Range 5 West, Boise Meridian, Idaho, Group Number 1499, was accepted September 22, 2022.

The plat, in one sheet, incorporating the field notes of the dependent resurvey of a portion of the subdivisional lines and the subdivision of section 30, Township 13 North, Range 4 West, Boise Meridian, Idaho, Group Number 1501, was accepted September 22, 2022.

A person or party who wishes to protest one or more plats of survey identified above must file a written notice of protest with the Chief Cadastral Surveyor for Idaho, BLM within 30 calendar days from the date of this publication at the address listed in the ADDRESSES section of this notice. The protest must identify the plat(s) of survey that the person or party wishes to protest and contain all reasons and evidence in support of the protest. A protest is considered filed on the date it is received by the Chief Cadastral Surveyor for Idaho during regular business hours; if received after regular business hours, a protest will be considered filed the next business day.

Before including your address, phone number, email address, or other personal identifying information in a protest, you should be aware that the documents you submit, including your personal identifying information, may be made publicly available in their entirety at any time. While you can ask us to withhold your personal identifying information from public review, we cannot guarantee that we will be able to do so.

(Authority: 43 U.S.C., Chapter 3).

Monte L. King,
Acting Chief Cadastral Surveyor for Idaho.

[FR Doc. 2022-24147 Filed 11-4-22; 8:45 am]

BILLING CODE 4310-GG-P